DEPARTMENT OF THE INTERIOR

National Park Service

National Register of Historic Places; Notification of Pending Nominations and Related Actions

Nominations for the following properties being considered for listing or related actions in the National Register were received by the National Park Service before February 14, 2009.

Pursuant to section 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service,1201 Eye St., NW., 8th floor, Washington, DC 20005; or by fax, 202-371-6447. Written or faxed comments should be submitted by March 17, 2009.

J. Paul Loether,
Chief, National Register of Historic Places/National Historic Landmarks Program.

CALIFORNIA

Los Angeles County

Angelus Funeral Home, (African Americans in Los Angeles) 1010 E. Jefferson Blvd., Los Angeles, 09000146

Fire Station No. 14, (African Americans in Los Angeles) 3401 S. Central Ave., Los Angeles, 09000147

Fire Station No. 30—Engine Company No. 30, (African Americans in Los Angeles) 1401 S. Central Ave., Los Angeles, 09000148

Lincoln Theater, (African Americans in Los Angeles) 2300 S. Central Ave., Los Angeles, 09000149

Prince Hall Masonic Temple, (African Americans in Los Angeles) 1050 E. 50th St., Los Angeles, 09000150

Second Baptist Church, (African Americans in Los Angeles) 1100 E. 24th St., Los Angeles, 09000151

Twenty-eighth Street YMCA, (African Americans in Los Angeles) 1006 E. 28th St., Los Angeles, 09000145

DISTRICT OF COLUMBIA

District of Columbia

Simpson, Billy, House of Seafood and Steak, 3815 Georgia Ave., NW., Washington DC, 09000152

GEORGIA

Burke County

Waynesboro Historic District, Roughly bounded by Walker St., 12th St., Waters St., Corker Row, 4th St., and Jones Ave., Waynesboro, 09000153

NEW YORK

Allegany County

Centerville Town Hall, Fairview Rd., Centerville, 09000154

Hamilton County

Hedges, The, The Hedges Rd., Indian Lake, 09000155

Livingston County

Engleside, 9086 McNair Rd., Dansville, 09000156

Orange County

Echo Lawn Estate, River Rd. at Stone Gate Dr., Balmville, 09000157

Milliken-Smith Farm, 279 Bailey Rd., Montgomery, 09000158

Rockland County

Blauvelt, Johannes Isaac, House, 820 Western Hwy., Blauvelt, 09000159

VERMONT

Windham County

Homestead-Horton Neighborhood Historic District, Homestead Place, Horton Place, Canal St., Brattleboro, 09000160

VIRGINIA

Charlottesville Independent City

Oakhurst-Gildersleeve Neighborhood Historic District, Oakhurst Circle, Gildersleeve Wood, Valley Rd., Valley Circle, and part of Maywood Ln., and Jefferson Park Ave., Charlottesville, 09000161

Rockingham County

Bogota, 5375 Lynnwood Rd., Port Republic, 09000162

Winchester Independent City

Mount Hebron Cemetery and Gatehouse, 305 E. Boscawen St., Winchester, 09000163

WISCONSIN

Vilas County

Jabodon, 1460 Everett Rd., Washington, 09000164

Request for REMOVAL has been made for the following resources:

NORTH DAKOTA

Burleigh County

Liberty Memorial Bridge, 1-94, Business Loop, across the Missouri River, Bismark, 97000172

Traill County

Blanchard Bridge, Across the Elm River, unnamed Co. Rd., approx. .5 mi. S. of Blanchard, E. of ND 18, Blanchard, 97000189

Goose River Bridge, Across the Goose River, unnamed Co. Rd. approx 6 mi. E. and 1 mi. N. of Hillsboro, Hillsboro, 97000187

Porter Elliott Bridge, Across the Sheyenne River, unnamed Co. Rd., approx 5 mi. E. and 1 mi. N. of Hillsboro, Hillsboro, 97000193

Sarles, O.C., House, 2nd Ave. and 3rd St., NE., Hillsboro, 85000562

Flat Iron Building, 112 W. Central Ave., part of the Minot Commercial Historic District which is bounded by Soo Line Railroad tracks, Burdick Expressway, and Broadway, Minot, 86002823

[FR Doc. E9-4276 Filed 2-27-09; 8:45 am]

BILLING CODE 4310-70-P